DEPARTMENT OF HEALTH AND HUMAN SERVICES

National Institutes of Health

Government-Owned Inventions; Availability for Licensing

AGENCY: National Institutes of Health, Public Health Service, DHHS.

ACTION: Notice.

SUMMARY: The inventions listed below are owned by an agency of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by writing to the indicated licensing contact at the Office of Technology Transfer, National Institutes of Health, 6011 Executive Boulevard, Suite 325, Rockville, Maryland 20852-3804; telephone: (301) 496-7057; fax: (301) 402-0220. A signed Confidential Disclosure Agreement will be required to receive copies of the patent applications.

Methods and Compositions of Defensin-Antigen Fusion Proteins and Chemokine-Antigen Fusion Proteins as Vaccines for Tumors and Viral Infection

Arya Biragyn (NCI).

PCT Application No. PCT/US01/43830 filed 19 Nov 2001 (DHHS Reference No. E-024-2002/0-PCT-02).

Licensing Contact: Catherine Joyce; (301) 435-5031; joycec@mail.nih.gov.

This invention relates to the development of a vaccine for increasing the immunogenicity of a tumor antigen, thus useful for the treatment of cancer, as well as a vaccine for increasing the immunogenicity of a viral antigen, thus allowing treatment of viral infection. In particular, the present invention provides a fusion protein comprising a defensin or chemokine fused to either a tumor antigen or viral antigen which is administered as either a protein or nucleic acid vaccine to elicit an immune response effective in treating cancer or effective in treating or preventing viral infection. In particular, the C-C chemokine macrophage inflammatory protein (MIP-3α) was shown to be particularly effective in increasing the immunogenicity of a tumor antigen. Aspects of this work have been published as a PCT patent application with publication number WO 03/025002.

This technology is available for licensing on an exclusive or a non-exclusive basis.

Dated: December 16, 2003.
Steven M. Ferguson,
Director, Division of Technology Development and Transfer, Office of Technology Transfer, National Institutes of Health.

[FR Doc. 03-31652 Filed 12-22-03; 8:45 am]

BILLING CODE 4140-01-P